DEPARTMENT OF LABOR

Employment and Training Administration

[TA-W-60,965]

Eaton Aviation Corporation, Aviation and Aerospace Components, Including On-Site Leased Workers From Aorist Enterprises, Inc. and Aerotek, Inc., Aurora, CO; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on May 1, 2007, applicable to workers of Eaton Aviation Corporation, Aviation and Aerospace Components, Aurora, Colorado. The notice was published in the Federal Register on May 17, 2007 (72 FR 27854). The certification was amended on July 15, 2008 to include on-site leased workers from Aorist Enterprises. The notice was published in the Federal Register on July 28, 2008 (73 FR 43788)

At the request of the State agency, the Department reviewed the certification for workers of the subject firm. The workers are engaged in the production of aviation and aerospace parts and components.

New information shows that workers leased from Aerotek, Inc. were employed on-site at the Aurora, Colorado location of Eaton Aviation Corporation, Aviation and Aerospace Components. The Department has determined that these workers were sufficiently under the control of the subject firm to be considered leased workers.

Based on these findings, the Department is amending this certification to include workers leased from Aerotek, Inc. working on-site at the Aurora, Colorado location of the subject firm.

The intent of the Department's certification is to include all workers employed at Eaton Aviation Corporation, Aviation and Aerospace Components who were adversely affected by a shift in production of aviation and aerospace parts and components to Mexico.

The amended notice applicable to TA-W-60,965 is hereby issued as follows:

All workers producing aviation and aerospace parts and components at Eaton Aviation Corporation, Aurora, Colorado, or engaged in the support of such production including on-site leased workers of Aorist Enterprises, Inc. and Aerotek, Inc. (TA-W-60,965), who became totally or partially separated from employment on or after February 13, 2006, through May 1, 2009, are eligible to apply for adjustment assistance under Section 223 of the Trade Act of 1974, and are also eligible to apply for alternative trade adjustment assistance under Section 246 of the Trade Act of 1974.

Signed at Washington, DC, this 17th day of February 2009.
Richard Church,
Certifying Officer, Division of Trade Adjustment Assistance.

[FR Doc. E9-4390 Filed 3-2-09; 8:45 am]

BILLING CODE 4510-FN-P